DEPARTMENT OF HEALTH AND HUMAN SERVICES

Office of the Secretary

2 CFR Part 376

45 CFR Parts 74 and 76

Implementation of the Office of OMB Guidance on Nonprocurement Debarment and Suspension

AGENCY: Department of Health and Human Services.

ACTION: Final rule.

SUMMARY: The Department of Health and Human Services (“HHS” or the “Department”) adopted, by an interim final rule, the Office of Management and Budget (OMB) guidance at 2 CFR part 180 on nonprocurement debarment and suspension including some provisions specific to HHS. Public comment on this action was solicited in a Federal Register notice dated March 1, 2007. No comments were received; therefore, the Department makes no changes to its interim final rule and it remains in effect as of March 1, 2007. Pursuant to the requirements in OMB guidance, HHS makes final the following regulatory actions: Removes its existing regulation on nonprocurement debarment at 45 CFR part 76, establishes a new part 376 in title 2 Code of Federal Regulations (CFR) adopting OMB's guidance and adding provisions specific to HHS, and revises the reference in 45 CFR 74.13 to reflect the new citation to 2 CFR part 376.

DATES: Effective June 28, 2007.

FOR FURTHER INFORMATION CONTACT: Nancy Weisman, Office of Grants Policy, Oversight and Evaluation, U.S. Department of Health and Human Services, at (202) 260-4573, or e-mail her at Nancy.Weisman@hhs.gov.

SUPPLEMENTARY INFORMATION:

I. Procedural Review Requirements

A. Executive Order 12866, Regulatory Planning and Review

HHS has determined that 2 CFR part 376 is not a significant regulatory action.

B. Regulatory Flexibility Act

HHS certifies this rulemaking will not have a significant economic effect on a substantial number of small entities under the Regulatory Flexibility Act [5 U.S.C. 605(b)]. Therefore, no regulatory flexibility statement has been prepared. Since this rule relocates existing HHS nonprocurement and debarment policies or procedures and does not promulgate any new policies and procedures that would impact the public, it has been determined that this rule will not have a significant economic effect on a substantial number of small entities, and, thus, a regulatory flexibility analysis was not performed.

C. Unfunded Mandates Reform Act

HHS has determined that 2 CFR 376 does not contain a Federal mandate under 2 U.S.C. 1501(7) that may result in the expenditure by State, local and tribal governments, in the aggregate, or by the private sector, of $100 million or more in any one year.

D. Paperwork Reduction Act

The Paperwork Reduction Act, 44 U.S.C. 35, does not apply because the issuance of 2 CFR part 376 does not impose any new reporting or recordkeeping requirements that require approval by OMB.

E. Executive Order 13132, Federalism

This regulation does not have federalism implications, as set forth in Executive Order 13132. This regulation does not have substantial direct effects on the states, the relationship between the Federal government and the states, or the distribution of power and responsibilities among the various levels of government.

List of Subjects

2 CFR Part 376

Administrative practice and procedure, Debarment and suspension, Grant programs, Reporting and recordkeeping requirements.

45 CFR Part 74

Accounting, Colleges and universities, Grant programs, Hospitals, Indians, Intergovernmental relations, Nonprofit organizations, Reporting and recordkeeping requirements.

45 CFR Part 76

Administrative practice and procedure, Debarment and suspension, Grant programs, Reporting and recordkeeping requirements.

Dated: June 18, 2007.
Michael O. Leavitt,
Secretary.

Accordingly, under the authority of 5 U.S.C. 301; 31 U.S.C. 6101 (note); E.O. 12689 (3 CFR, 1989 Comp., p. 235); E.O. 12549 (3 CFR, 1986 Comp., p. 189); E.O. 11738 (3 CFR, 1973 Comp., p. 799), the interim rule amending 2 CFR part 376 and 45 CFR parts 74 and 76 which was published at 72 FR 9233 on March 1, 2007, is adopted as a final rule without change.

[FR Doc. E7-12225 Filed 6-27-07; 8:45 am]

BILLING CODE 4150-24-P